DEPARTMENT OF THE INTERIOR

[NPS-WASO-CONC-12542; PPMVSCS1Y.Y00000; PPWOBSADC0]

Notice of Public Meeting: Concessions Management Advisory Board

AGENCY: National Park Service, Interior.

ACTION: Notice of cancellation of public meeting of the Concessions Management Advisory Board.

SUMMARY: On February 14, 2013, the National Park Service announced that a public meeting of the Concessions Management Advisory Board would be held March 20, 2013 in Washington, DC. This meeting has been cancelled. A future meeting date for this Board may be scheduled and would be announced in the Federal Register.

DATES: The public meeting previously scheduled for March 20 is cancelled.

FOR FURTHER INFORMATION CONTACT: For further information contact Deborah Harvey, Acting Chief, National Park Service, Commercial Services Program, 1201 Eye Street NW., Washington, DC 20005, Telephone: 202-513-7156.

Dated: March 11, 2013.
Lena McDowall,
Associate Director, Business Services.

[FR Doc. 2013-06041 Filed 3-14-13; 8:45 am]

BILLING CODE 4312-53-P